DEPARTMENT OF AGRICULTURE

Forest Service

Lynn Canal/Icy Straits Resource Advisory Committee

AGENCY: Forest Service, USDA.

ACTION: Notice of meeting.

SUMMARY: The Lynn Canal/Icy Straits Resource Advisory Committee will hold a teleconference, June 9, 2011. The purpose of this meeting is to discuss metrics and protocol in the decision-making process and review, discuss, evaluate, and prioritize proposed projects acquired to the May 18th deadline.

DATES: The meeting will be held June 9, 2011 from 9-3:30.

ADDRESSES: The meeting will be held via teleconference. Send written comments to Lynn Canal/Icy Straits Resource Advisory Committee, c/o Admiralty National Monument Ranger 8510 Mendenhall Loop Road, Juneau, Alaska 99801, or electronically to Debra Robinson, RAC Coordinator at drobinson03@fs.fed.us.

FOR FURTHER INFORMATION CONTACT: Debra Robinson, RAC Coordinator Juneau Ranger District/Admiralty National Monument, Tongass National Forest, (907) 789-6209.

SUPPLEMENTARY INFORMATION: The meeting is open to the public. Public may call 907-586-9398 to connect with the meeting. Hoonah Ranger District, 430A Airport Road, Hoonah, Alaska and Juneau Ranger District/Admiralty National Monument, 8510 Mendenhall Loop Road, Juneau Alaska will also have rooms set up for the public to come in and listen to the call. Committee discussion is limited to Forest Service staff and Committee members. However, public input opportunity will be provided and individuals will have the opportunity to address the Committee at that time.

Dated: May 11, 2011.
Chad VanOrmer,
Admiralty National Monument Ranger.

[FR Doc. 2011-12346 Filed 5-18-11; 8:45 am]

BILLING CODE 3410-11-P